POSTAL SERVICE

Notice of Ratemaking Summit Co-Sponsored by Postal Service and Postal Rate Commission

AGENCY: Postal Service.

ACTION: Notice of Meeting.

SUMMARY: The Postal Service and the Postal Rate Commission will jointly sponsor a Ratemaking Summit at the Postal Service's Bolger Academy to consider how the process and approach for changing postal rates in major “omnibus” rate cases can be improved. All interested parties are invited to register and attend. Whether or not they attend, interested parties are also invited to submit a summary of priority issues they believe should be discussed.

DATES: The Ratemaking Summit will be held on Tuesday, May 28, 2002. Interested parties should submit to Jacquelyn Gilliam (address below) issue summaries and indicate whether they intend to attend by 5 p.m. on Friday, May 10.

ADDRESSES: The Postal Service Center for Leadership Development (Bolger Academy) is located at 9600 Newbridge Drive, Potomac, Maryland 20858-4320.

FOR FURTHER INFORMATION CONTACT: Jacquelyn Gilliam, Secretary to the CMO, U.S. Postal Service, 1735 N. Lynn Street, Room 6012, Arlington, Virginia 22209-6000. Telephone: (703) 292-3677. Email: jgillia2@email.usps.gov.

SUPPLEMENTARY INFORMATION: The U.S. Postal Service and the Postal Rate Commission hereby announce that they are jointly sponsoring a Ratemaking Summit to be held on Tuesday, May 28, 2002, at the Bolger Academy, 9600 Newbridge Drive, Potomac, Maryland. Continental breakfast will be served starting at 8 a.m. and the Summit will begin at 9 a.m. and conclude at 4:30 p.m.

The Summit will focus on how the process and approach for establishing and changing postal rates in major “omnibus” cases can be improved. If this Summit is successful, the Postal Service and the Postal Rate Commission may sponsor additional meetings to address other ratemaking issues.

The Postal Service and the Postal Rate Commission invite all interested persons to share their views of what they want from the ratemaking process. Discussions will follow on potential changes that could not only satisfy the statutory obligations of the Commission and the Postal Service, but also make the omnibus ratemaking process more responsive to the needs of all affected interests, with particular focus on business and individual mailers.

In order to help make the Summit discussion as responsive and as practically useful as possible, the Commission and the Postal Service invite interested parties to submit a short summary of priority issues (no longer than two pages) related to omnibus rate cases that they believe should be discussed. The Postal Service and the Commission will use these summaries in developing a Summit agenda.

For purposes of preparing the agenda, as well as planning meeting space and refreshments, interested parties must indicate their intention to attend, as well as submit any issue summaries, to the Postal Service no later than 5:00 p.m. on Friday, May 10. Please respond to: Jacquelyn Gilliam, Secretary to the CMO, US Postal Service, 1735 N Lynn St, Rm 6012, Arlington VA 22209-6000; or Email to: jgillia2@email.usps.gov. Before the meeting, an agenda and directions to the Bolger Academy will be sent to all who have stated an intention to attend. Those wishing to reserve a room at the Bolger Academy the night before the Summit should call (301) 983-7000 to make a reservation. To ensure efficient handling, interested parties are requested to submit issue summaries and indicate a desire to attend using the following format:

Ratemaking Summit

Name:

Address:

Phone Number:

Email Address:

__ I will attend the May 28, 2002 Ratemaking Summit.

__ I will not attend the May 28, 2002 Ratemaking Summit.

I believe that the following issues related to the process for deciding omnibus rate cases should be discussed at the Summit:

[Insert suggestions.]

Stanley F. Mires,
Chief Counsel, Legislative.

[FR Doc. 02-11643 Filed 5-6-02; 2:37 pm]

BILLING CODE 7710-12-P